ENVIRONMENTAL PROTECTION AGENCY

40 CFR Part 52

[EPA-R06-OAR-2024-0380; FRL-12206-01-R6]

Finding of Failure to Attain by the Attainment Date for the 2010 1-Hour Primary Sulfur Dioxide National Ambient Air Quality Standard; Louisiana; Evangeline Parish Nonattainment Area

AGENCY: Environmental Protection Agency (EPA).

ACTION: Proposed rule.

SUMMARY: Pursuant to the Federal Clean Air Act (CAA or the Act), the Environmental Protection Agency (EPA) is proposing to determine that the Evangeline Parish, Louisiana, sulfur dioxide (SO2) nonattainment area (NAA) has failed to attain the 2010 1-hour primary SO2 national ambient air quality standard (2010 SO2 NAAQS) by the applicable statutory attainment date of April 9, 2023. This determination is based on analysis of reported emissions records and available modeling data. This action, if finalized, will address the EPA's obligation under CAA section 179(c) to determine whether the Evangeline Parish SO2 NAA attained the 2010 SO2 NAAQS by the April 9, 2023, attainment date.

DATES: Written comments must be received on or before October 4, 2024.

ADDRESSES: Submit your comments, identified by Docket ID No. EPA-R06-OAR-2024-0380 at https://www.regulations.gov, or via email to Thomas.Ronald@epa.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit https://www.epa.gov/dockets/commenting-epa-dockets.

Docket: The index to the docket for this action is available electronically at www.regulations.gov. While all documents in the docket are listed in the index, some information may not be publicly available due to docket file size restrictions or content (e.g., CBI).

FOR FURTHER INFORMATION CONTACT: Ronald Thomas, SO2 and Regional Haze Section (R6-ARSH), Air & Radiation Division, U.S. Environmental Protection Agency, Region 6, 1201 Elm Street, Suite 500, Dallas, Texas 75270. His direct telephone number is (214) 665-7478. Mr. Thomas can also be reached via electronic mail at Thomas.Ronald@epa.gov. We encourage the public to submit comments via https://www.regulations.gov. Please call or email the contact listed above if you need alternative access to material indexed but not provided in the docket.

SUPPLEMENTARY INFORMATION: Throughout this document whenever “we,” “us,” or “our” is used, we refer to the EPA.

I. Background

A. The 2010 1-Hour Primary SO2 NAAQS

Under section 109 of the CAA, the EPA has established primary and secondary NAAQS for certain pervasive air pollutants (referred to as “criteria pollutants”) and conducts periodic reviews of the NAAQS to determine whether they should be revised or whether new NAAQS should be established. The primary NAAQS represent ambient air quality standards that the EPA has determined are requisite to protect the public health, while the secondary NAAQS represent ambient air quality standards that the EPA has determined are requisite to protect the public welfare from any known or anticipated adverse effects associated with the presence of such an air pollutant in the ambient air.

Under the CAA, the EPA must establish a NAAQS for SO2, which is primarily released to the atmosphere through the burning of fossil fuels by power plants and other industrial facilities. SO2 is also emitted from industrial processes including metal extraction from ore and heavy equipment that burn fuel with a high sulfur content. Short-term exposure to SO2 can damage the human respiratory system and increase breathing difficulties. Small children and people with respiratory conditions, such as asthma, are more sensitive to the effects of SO2. Sulfur oxides at high concentrations in ambient air can also react with compounds to form small particulates (fine particulate matter or PM2.5) that can penetrate deeply into the lungs and cause acute health problems and/or chronic diseases. The EPA first established primary SO2 standards in 1971 at 140 parts per billion (ppb) over a 24-hour averaging period and at 30 ppb over an annual averaging period.¹

¹ 36 FR 8186 (April 30, 1971).

On June 22, 2010, the EPA published in the Federal Register a strengthened, primary 1-hour SO2 NAAQS, establishing a new standard at a level of 75 ppb, based on the 3-year average of the annual 99th percentile of daily maximum 1-hour average concentrations of SO2.² The revised SO2 NAAQS provides increased protection of public health. Along with revision of the SO2 NAAQS, EPA revoked the 1971 primary annual and 24-hour SO2 standards for most areas of the country following area designations under the new NAAQS.

² 75 FR 35520.

B. Designations, Classifications, and Attainment Dates for the 2010 SO2 NAAQS

Following promulgation of a new or revised NAAQS, the EPA is required to designate all areas of the country as either “attainment,” “nonattainment,” or “unclassifiable,” pursuant to CAA section 107(d)(1). On December 21, 2017, the EPA designated as nonattainment six areas in three States and two territories in the third round of SO2 designations.³ With that action, the EPA designated as nonattainment a small, rectangular area within Evangeline Parish, centered around the location of the Cabot Corporation's Ville Platte Plant (Cabot) near the city of Ville Platte, Louisiana.⁴ Pursuant to section 192(a) of the CAA, the attainment date for the Evangeline Parish NAA was no later than five years after the effective date of the initial designation, or April 9, 2023.

³ 83 FR 1098 (January 9, 2018).

⁴ For designations technical discussions, see EPA's Technical Support Document, Chapter 16, Section 4, 27-47, at https://www.epa.gov/sulfur-dioxide-designations/intended-sulfur-dioxide-area-designations-august-2017, available in the docket for this action.

CAA section 191(a) requires States that contain an area designated nonattainment for the 2010 1-hour primary SO2 NAAQS to develop and submit a nonattainment area (NAA) State Implementation Plan (SIP) to the EPA within 18 months of the effective date of an area's designation as nonattainment. For SO2, a NAA SIP (also referred to as an attainment plan) must meet the requirements of sections 110, 172(c), 191, and 192 of the CAA, and provide for attainment of the NAAQS by the applicable statutory attainment date, or no later than five years from the effective date of designation. The effective date of designation was April 9, 2018, which required the attainment SIP submission to be due on October 9, 2019. As of the drafting of this document, Louisiana had not submitted a SIP revision for the Evangeline Parish NAA. On November 3, 2020, effective December 3, 2020, the EPA issued a Finding of Failure to Submit (a SIP) for Louisiana for failing to submit a SIP revision for the Evangeline Parish NAA.⁵

⁵ 85 FR 69504 (November 3, 2020).

C. EPA's Finding of Failure To Attain by the Attainment Date

Section 179(c)(1) of the CAA requires the EPA to determine whether a NAA attained an applicable standard by the applicable statutory attainment date based on the area's air quality as of the attainment date. The EPA is to issue this determination within six months of the attainment date. Thus, the EPA had a mandatory duty under CAA section 179(c) to determine by October 9, 2023, whether the NAA attained the NAAQS by the statutory attainment date. With this action, the EPA proposes to determine, in accordance with CAA section 179(c), that the Evangeline Parish NAA failed to attain the 2010 1-hour primary SO2 NAAQS by the April 9, 2023, attainment date.

A determination of whether an area's air quality meets applicable standards is generally based upon the most recent three years of complete, quality-assured data gathered at established State and local air monitoring stations (SLAMS) in an NAA and other available information. The EPA's 2014 Guidance for 1-Hour SO2 Nonattainment Area SIP Submissions states, “The EPA will determine whether or not an SO2 nonattainment area has attained the NAAQS based on air quality monitoring data (when available) and air quality dispersion modeling information for the affected area, and/or a demonstration that the control strategy has been fully implemented.” ⁶ In the case of Evangeline Parish, the designation was based on our review of dispersion modeling results submitted by the Louisiana Department of Environmental Quality (LDEQ) that showed violations of the NAAQS.⁷ The modeling analysis included the only major source of SO2 emissions in the parish, Cabot, and relied upon reported SO2 emissions for Cabot for 2013-2015. In addition, as noted above, Louisiana has not submitted a control strategy (via SIP revision) for the NAA.

⁶ Guidance for 1-Hour SO2 Nonattainment Area SIP Submissions; EPA, April 23, 2014, can be found at https://www.epa.gov/so2-pollution/guidance-1-hour-sulfur-dioxide-so2-nonattainment-area-state-implementation-plans-sip, available in the docket for this action.

⁷ See EPA's Technical Support Document accompanying the area's initial designation, Chapter 16, Section 4, 27-47, at https://www.epa.gov/sulfur-dioxide-designations/intended-sulfur-dioxide-area-designations-august-2017, available in the docket for this action.

II. Proposed Determination

A. Area Characterization

The Evangeline Parish NAA is located in south central Louisiana, approximately sixty kilometers north of Lafayette, Louisiana; it encompasses a rectangular area (2150 meters by 3000 meters) approximately six kilometers north of the city of Ville Platte, bounded by the designated NAA coordinate vertices provided in table 1. The Evangeline Parish NAA includes the Cabot carbon black plant within the extent of the modeled SO2 violation impacts from Cabot.

Table 1—Boundary Corner Coordinates of the Evangeline Parish Rectangular Nonattainment Area
UTM ⁸ Easting (m) | UTM Northing (m) | UTM Zone | Datum
570250 | 3400300 | 15 | NAD 83
570250 | 3403300 | 15 | NAD 83
572400 | 3403300 | 15 | NAD 83
572400 | 3400300 | 15 | NAD 83

B. Evaluation of SO2 Emissions Data and Modeling

As noted earlier, the EPA based the nonattainment designation on modeling submitted by LDEQ. In our review of that modeling, as documented in EPA's TSD ⁹ accompanying the designation, we concluded that the source characterization, modeling parameters, and modeling techniques submitted by LDEQ for this designation conformed with the guidelines of the EPA's modeling Technical Assistance Document (TAD).¹⁰

⁸ Universal Transverse Mercator coordinate system (an ellipsoid earth map projection). The easting is longitudinal, and the northing is latitudinal.

⁹ See EPA's Technical Support Document accompanying the area's initial designation, Chapter 16, Section 4, 27-47, at https://www.epa.gov/sulfur-dioxide-designations/intended-sulfur-dioxide-area-designations-august-2017, available in the docket for this action.

¹⁰ SO2 NAAQS Designations Modeling Technical Assistance Document, EPA, August 2016, available at https://www.epa.gov/sites/default/files/2016-06/documents/so2modelingtad.pdf and available in the docket for this action.

The EPA's designation of the Evangeline Parish area relied on the modeled SO2 emissions for the years 2013 through 2015. Cabot is the only major SO2 source in the parish. These SO2 emissions are generated from Cabot's carbon black manufacturing facility through the process of converting carbonaceous feedstock materials into various grades of carbon black in a mostly continuous process, wherein Cabot's feedstock inherently contains sulfur compounds that are combusted, oxidized, and emitted with the tail gas as SO2. Following the designation, Cabot has not completed the installation of controls to reduce emissions, and the State has not provided a demonstration that the area has attained the NAAQS.

The EPA evaluated annual SO2 emissions trends for the only major stationary SO2 source in the area, Cabot Ville Platte facility, via LDEQ's emissions database.¹¹ Table 2 lists the total reported SO2 emissions for each year 2013 through 2022.

¹¹ LDEQ's ERIC Annual Certified Emissions datasets: https://deq.louisiana.gov/page/eric-public-reports.

Table 2—Annual Emissions From Major Stationary SO2 Sources in the Evangeline Parish Nonattainment Area for 2013 Through 2022
[Tons of SO2 per year]
Year | Cabot Ville Platte
2013 | 8,519.76
2014 | 8,661.39
2015 | 8,094.10
2016 | 8,289.22
2017 | 11,029.06
2018 | 11,069.91
2019 | 11,033.92
2020 | 7,562.72
2021 | 8,425.99
2022 | 9.964.47

The 2010 SO2 NAAQS is met at an ambient air quality monitoring site when the three-year average of the annual (99th percentile) of the daily maximum 1-hour average concentrations is less than or equal to 75 ppb.¹² CAA section 179(c) requires EPA's determination of whether the area attained by the attainment date to be based on the area's air quality as of the attainment date. Therefore, even though EPA is not relying on ambient air quality monitoring data for its proposed determination, because such monitoring data does not exist, the three-year period of 2020 through 2022 is the relevant time period for evaluation in fulfilling the Agency's obligation under CAA section 179(c). EPA compared the annual source emissions from the 2020-2022 period with the annual source emissions from the 2013-2015 period, which were the emissions used in the air quality modeling underlying the EPA's designation of the area as nonattainment. The average of the annual source emissions from 2020-2022 is 8,651 tons per year, higher than the 2013-2015 average of the annual source emissions of 8,469 tons per year. These source emissions data indicate that no reduction in emissions has occurred since designation of the Evangeline Parish NAA; therefore, these data, viewed in light of the 2017 initial designation modeling, demonstrate that air quality did not improve in the area near Cabot ¹³ and support the proposed finding that the Evangeline Parish NAA failed to attain the 2010 SO2 NAAQS by the statutory attainment date of April 9, 2023.

¹² 40 CFR 50.17(b).

¹³ Emission reductions alone would not be sufficient evidence to claim the area has attained. The EPA would require technical analyses and/or modeling to demonstrate that the emission reductions were sufficient to bring the area into attainment.

The peak modeled receptor design value from EPA's designations TSD is summarized in table 3. The modeling analysis showed that the area was violating the NAAQS based on source emissions from 2013-2015, with a modeled DV of 277.6 compared to the NAAQS of 196.4 μg/m³. Given that average emissions for 2020-2022 have increased since the 2013-2015 period, and no emissions control strategy has been implemented by Cabot by the attainment date, there is no evidence that the State had remedied the original modeled violations by the attainment date.

Table 3—Summary of 2013-2015 Peak Modeled Receptor 1-Hour SO2 Design Value for the Evangeline Parish NAA
Averaging period | Data period | Receptor location (UTM zone 15): UTM easting (m) | Receptor location (UTM zone 15): UTM northing (m) | 99th percentile daily maximum 1-hour SO2 concentration (μg/m³): Modeled concentration (including background) | 99th percentile daily maximum 1-hour SO2 concentration (μg/m³): NAAQS level
99th Percentile 1-hour Avg | 2013-2015 | 571696 | 3402478 | 277.6 | 196.4 *
* Equivalent to the 2010 NAAQS of 75 ppb using 2.619 μg/m³ conversion factor.

C. Conclusion

We propose to determine that the Evangeline Parish NAA failed to attain the 2010 1-hour SO2 NAAQS by the statutory attainment date of April 9, 2023, based on data showing that emissions have increased when comparing the 2020-2022 period to the modeled emissions at designation. Based on this increase in emissions, there is nothing to suggest that the area is no longer in violation of the NAAQS as demonstrated by the 2017 modeling analysis for the initial designation of the area. At the time of drafting of this document, Cabot had not fully implemented a control strategy to reduce emissions, and LDEQ had not submitted an attainment plan (SIP revision).

Under CAA section 179(d), if the EPA determines that an area did not attain the NAAQS by the applicable deadline, the responsible air agency has up to 12 months from the publication of the final notice of the determination to submit a revised SIP for the area demonstrating attainment and containing any additional measures that the EPA may reasonably prescribe that can be feasibly implemented in the area in light of technological achievability, costs, and any non-air quality and other air quality-related health and environmental impacts as required. Under CAA section 179(d)(3), such a revised SIP is to achieve attainment of the 2010 SO2 NAAQS as expeditiously as practicable, but no later than 5 years from the date of notice of the area's failure to attain (i.e., 5 years after the EPA publishes a final action in the Federal Register determining that the area failed to attain the 2010 SO2 NAAQS). In addition to triggering requirements for a new SIP submittal, a final determination that a NAA failed to attain the NAAQS by the attainment date would trigger the implementation of contingency measures adopted under 172(c)(9).

III. Proposed Action and Request for Public Comment

Based on the EPA's review of all available evidence described in this document, the EPA is proposing to find that the Evangeline Parish NAA failed to attain the 2010 SO2 NAAQS by the statutory attainment date of April 9, 2023. This action will not impact the designation status of the NAA, and the Evangeline Parish NAA will remain designated nonattainment for the 2010 SO2 NAAQS until such time as Louisiana submits to the EPA a SIP with permanent, enforceable limitations that meet the requirements of the CAA, and the EPA takes action to redesignate the area. If finalized, this action will address the EPA's obligation under CAA section 179(c) to determine if the Evangeline Parish NAA attained the 2010 1-hour SO2 NAAQS by the April 9, 2023, attainment date. The EPA is soliciting public comments on this document; these comments will be considered before taking final action.

IV. Environmental Justice Considerations

Information on Executive Order 12898 (Federal Actions To Address Environmental Justice in Minority Populations and Low-Income Populations, 59 FR 7629, February 16, 1994) and how EPA defines environmental justice (EJ) can be found in the section, below, titled “V. Statutory and Executive Order Reviews.” EPA is providing additional analysis of environmental justice associated with this action, the results of which are being provided for informational and transparency purposes only, not as a basis of our proposed action.

The EPA conducted a screening analysis using EJScreen, an environmental justice mapping and screening tool that provides EPA with a nationally consistent dataset and approach for combining various environmental and demographic indicators.¹⁴ The EJScreen tool presents these indicators at a Census block group (CBG) level or a larger user-specified “buffer” area (around a certain point location or boundary area) that covers multiple CBGs.¹⁵ An individual CBG is a cluster of contiguous blocks within the same census tract and generally contains between 600 and 3,000 people. EJScreen is not a tool for performing in-depth risk analyses but is instead a screening tool that provides an initial representation of indicators related to environmental justice and is subject to uncertainty in some underlying data (e.g., some environmental indicators are based on monitoring data which are not uniformly available; others are based on self-reported data).¹⁶ To help mitigate this uncertainty, we have summarized EJScreen data within a larger “buffer” area covering multiple block groups and representing the average resident within the buffer area surrounding the Cabot carbon black plant in Evangeline Parish.

¹⁴ The EJScreen tool is available at https://www.epa.gov/ejscreen.

¹⁵ See https://www.census.gov/programs-surveys/geography/about/glossary.html.

¹⁶ In addition, EJScreen relies on the five-year block group estimates from the U.S. Census American Community Survey. The advantage of using five-year over single-year estimates is increased statistical reliability of the data (i.e., lower sampling error), particularly for small geographic areas and population groups. For more information, see https://www.census.gov/content/dam/Census/library/publications/2020/acs/acs_general_handbook_2020.pdf.

We use EJScreen environmental indicators to help screen for locations where residents may experience a higher overall pollution burden than would be expected for another block group with the same total population. These indicators of overall pollution burden include estimates of ambient particulate matter (PM2.5) and ozone concentrations, a score for traffic proximity and volume, percentage of pre-1960 housing units (lead paint indicator), and scores for proximity to Superfund sites, risk management plan (RMP) sites, and hazardous waste facilities.¹⁷ EJScreen also provides information on demographic indicators, including percent low-income, communities of color, linguistic isolation, and less than high school education.

¹⁷ For additional information on environmental indicators and proximity scores in EJScreen, see “EJScreen Environmental Justice Mapping and Screening Tool: EJScreen Technical Documentation for Version 2.3,” Chapter 3 (July 2024) at https://www.epa.gov/system/files/documents/2024-07/ejscreen-tech-doc-version-2-3.pdf.

The EPA prepared an EJScreen report covering a buffer area of approximately a 6-mile radius around the Cabot facility. Table 4 presents a summary of some of the more pertinent results from the EPA's screening-level analysis for Cabot compared to the U.S. as a whole. From that report, the area around Cabot does not contain EJ environmental indicator indices greater than the 80th percentiles. The demographic indicators for low income and people with less than a high school education are both at the 90th percentile. The full, detailed EJScreen Community Report is provided in the docket for this action.

Table 4—EJScreen Analysis Summary for Cabot Ville Platte
Variables | EJScreen Values for 6-mile buffer area (radius) around Cabot compared to the U.S. average: Cabot (Evangeline Parish NAA) (value and percentile in the U.S.) | EJScreen Values for 6-mile buffer area (radius) around Cabot compared to the U.S. average: U.S. average (indicator value)
Pollution Burden Indicators
Particulate matter (PM2.5), annual average | 7.78 μg/m³ (37th %ile) | 8.45 μg/m³.
Ozone, summer seasonal average of daily 8-hour max | 33.2 ppb (11th %ile) | 41 ppb.
Traffic proximity and volume score * | 39,000 (10th %ile) | 1,700,00.
Lead paint (percentage pre-1960 housing) | 0.16% (44th %ile) | 0.30%.
Superfund proximity score * | 0 (0th %ile) | 0.39.
RMP proximity score * | 0.02 (0th %ile) | 0.57.
Hazardous waste proximity score * | 0.62 (37th %ile) | 3.5.
Demographic Indicators
People of color population | 50% (65th %ile) | 40%.
Low-income population | 63% (90th %ile) | 30%.
Linguistically isolated population | 2% (64th %ile) | 5%.
Population with less than high school education | 28% (90th %ile) | 11%.
Population under 5 years of age | 7% (67th %ile) | 5%.
Population over 64 years of age | 16% (51st %ile) | 18%.
* The traffic proximity and volume indicator is a score calculated by daily traffic count divided by distance in meters to the road. The Superfund proximity, RMP proximity, and hazardous waste proximity indicators are all scores calculated by site or facility counts divided by distance in kilometers.

This action is proposing a Finding of Failure to Attain the 2010 1-hour primary SO2 NAAQS for the Evangeline Parish NAA by the statutory attainment date of April 9, 2023. Information on SO2 and its relationship to negative health impacts can be found at final Federal Register notice titled “Primary National Ambient Air Quality Standard for Sulfur Dioxide” (75 FR 35520, June 22, 2010).¹⁸ We expect that this particular action will not have a detrimental environmental impact on the populations in the Evangeline Parish NAA, including people of color and low-income populations in the Evangeline Parish NAA. The Act requires that the EPA determine whether areas attained the NAAQS by the attainment date and prescribes consequences for areas that fail to do so. This action triggers those consequences.

¹⁸ See https://www.federalregister.gov/d/2010-13947.

V. Statutory and Executive Order Reviews

This action proposes to find that an area has failed to attain the NAAQS by the relevant attainment date and does not impose additional or modify existing requirements. For that reason, this action:

• Is not a significant regulatory action subject to review by the Office of Management and Budget under Executive Orders 12866 (58 FR 51735, October 4, 1993) and 14094 (88 FR 21879, April 11, 2023);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act;

Executive Order 12898 (Federal Actions to Address Environmental Justice in Minority Populations and Low-Income Populations, 59 FR 7629, February 16, 1994) directs Federal agencies to identify and address “disproportionately high and adverse human health or environmental effects” of their actions on minority populations and low-income populations to the greatest extent practicable and permitted by law. The EPA defines environmental justice (EJ) as “the fair treatment and meaningful involvement of all people regardless of race, color, national origin, or income with respect to the development, implementation, and enforcement of environmental laws, regulations, and policies.” The EPA further defines the term fair treatment to mean that “no group of people should bear a disproportionate burden of environmental harms and risks, including those resulting from the negative environmental consequences of industrial, governmental, and commercial operations or programs and policies.” As noted in section IV, the EPA performed an EJ analysis, but we did not consider EJ as a basis for this action. Due to the nature of the action being taken here, this action is not expected to have a detrimental impact on the populations, including people of color and low-income populations, in the Evangeline Parish NAA. Consideration of EJ is not required as part of this action, which finds that an NAA failed to attain the 2010 SO2 NAAQS by the applicable attainment date, and there is no information in the record inconsistent with the stated goal of E.O. 12898 of achieving environmental justice for people of color, low-income populations, and Indigenous peoples.

In addition, this proposed rulemaking, the finding of failure to attain by the attainment date for the Evangeline Parish SO2 NAA, does not have Tribal implications as specified by Executive Order 13175 (65 FR 67249, November 9, 2000), because this action is not intended to apply in Indian country located in the State, and the EPA notes that it will not impose substantial direct costs on Tribal governments or preempt Tribal law.

List of Subjects in 40 CFR Part 52

Environmental protection, Air pollution control, Incorporation by reference, Intergovernmental relations, Reporting and recordkeeping requirements, Sulfur oxides.

Authority: 42 U.S.C. 7401 et seq.

Dated: August 27, 2024.
Earthea Nance,
Regional Administrator, Region 6.

[FR Doc. 2024-19616 Filed 9-3-24; 8:45 am]

BILLING CODE 6560-50-P